DEPARTMENT OF THE INTERIOR

Bureau of Reclamation

Sacramento Valley Water Management Program—Implementation of Short-term Projects

AGENCY: Bureau of Reclamation, Interior.

ACTION: Notice of intent to prepare a programmatic environmental impact statement/environmental impact report (EIS/EIR) and hold public scoping meetings.

SUMMARY: The Department of the Interior, Bureau of Reclamation (Reclamation) and the California Department of Water Resources (CDWR) propose to prepare a Programmatic EIS/EIR to analyze the potential effects of the short-term phase of the Sacramento Valley Water Management Program (Short-term Program). The Short-term Program would include implementation of multiple short-term water management projects and other actions. The short-term projects would be implemented by Reclamation, CDWR, and Sacramento Valley water-users, and each project would operate for 10 years after implementation. The programmatic analysis in this EIS/EIR would include, but is not limited to, projects described in the “Sacramento Valley Water Management Agreement Short-term Workplan, October 2001” (“Short-term Workplan”). The purpose of implementing the Short-term Program is to promote better water management in the Sacramento Valley and develop additional water supplies through a cooperative water management partnership. The Short-term Program was developed to resolve water quality and water rights issues as an alternative to determining responsibility for flow-related water quality objectives of the 1995 Sacramento/San Joaquin Bay-Delta Water Quality Control Plan through a State Water Resources Control Board water rights hearing.

The environmental effects of some short-term projects would also be analyzed at a site-specific level of detail in the Programmatic EIS/EIR, and would constitute the final CEQA or NEPA document for those projects. As many short-term projects as possible would be analyzed at a site-specific level; however, the specific projects to be analyzed at that level are unknown at this time. Specific alternatives have not been identified at this time, and will be developed following scoping. Public scoping meetings regarding the preparation of the Programmatic EIS/EIR will be conducted as described below.

This notice is published in accordance with the National Environmental Policy Act regulations found in 40 CFR 1501.7. The purpose of this notice is to obtain suggestions and information from other agencies and the public on the scope of issues to be addressed in the Programmatic EIS/EIR. A similar notice is being published by the CDWR in accordance with the California Environmental Quality Act. Comments and participation in this scoping process are encouraged.

DATES: Two public scoping meetings will be held:

• Wednesday, August 20, 2003, 3-5 p.m., Sacramento, CA

• Thursday, August 21, 2003, 3-5 p.m., Colusa, CA

ADDRESSES: Scoping meetings will be held at:

• Sacramento at the Expo Inn, 1413 Howe Avenue (just south of Arden Way), The Expo Room.

• Colusa at the Colusa Industrial Properties, 100 Sunrise Boulevard (off Highway 45/20), The Conference Room.

Written comments on the scope of the Short-term Program or issues to be addressed in the EIS/EIR should be sent to the California Department of Water Resources, Attention: John Fielden, Project Manager, P.O. Box 942836, Sacramento, CA 94236-0001 by September 5, 2003.

FOR FURTHER INFORMATION CONTACT: John Fielden with CDWR via e-mail at jfielden@water.ca.gov or by calling (916) 651-7053 or Robert Eckart with Reclamation via e-mail at reckart@mp.usbr.gov or by calling (916) 978-5051. Additional information may also be found on the CDWR Web site at www.water.ca.gov.

SUPPLEMENTARY INFORMATION: As an alternative to participating in the State Water Resources Control Board's Phase 8 Bay-Delta Water Rights Hearings, Reclamation, CDWR, and numerous Sacramento Valley and export water interests entered into the “Short-term Agreement to Guide Implementation of the Short-term Water Management Actions to Meet Local Water Supply Needs and to Make Water Available to the SWP and CVP to Assist In Meeting the Requirements of the 1995 Water Quality Control Plan and to Resolve Phase 8 Issues' (the Short-term Settlement Agreement). The Short-term Settlement Agreement established a process by which parties collaborate in the development and implementation of a variety of projects and actions to help meet flow-related water quality objectives established for the Sacramento/San Joaquin Bay-Delta, meet local water needs, and improve water supplies throughout the State.

Five categories of short-term projects and actions will be considered in the Short-term Program EIS/EIR:

• Water Management—includes groundwater substitution in lieu of surface water supplies, conjunctive use of groundwater and surface water, refurbish existing groundwater extraction wells, install groundwater monitoring stations, and install new groundwater extraction wells (some actions include construction of facilities)

• Reservoir Re-operation—includes changes in the operational diagrams and schedules for reservoirs in the Sacramento River watershed

• System Improvement—includes canal lining, tailwater recovery, and improved operations (some actions include construction of facilities)

• Surface Water and Groundwater Planning—includes studies, modeling, monitoring, and area wide inventory or assessment (actions could include minor construction of facilities for monitoring and testing purposes)

• Other Actions—includes potential water transfer actions and/or actions with substantial regulatory/institutional requirements (does not involve construction of facilities).

The effects of implementing the Short-term Program (short-term projects and actions) will be evaluated at the programmatic level. The known short-term projects proposed throughout the Sacramento Valley are presented in Table 1. In addition to the programmatic analysis, some proposed projects would also be analyzed at a site-specific level to allow for their immediate implementation. As many projects as possible would be analyzed at a site-specific level of review; however, the specific projects to be analyzed at that level are unknown at this time.

Table 1.—Proposed Short-term Water Management Projects To Be Analyzed in the Programmatic EIS/EIR *
Project name (type) | Proponent | County | Description
Redding Sub-basin:
Conjunctive Use Program (Water Management) | Anderson-Cottonwood Irrigation District | Shasta County | Construct monitoring and extraction wells.
Churn Creek Lateral Improvements (System Improvement) | Anderson-Cottonwood Irrigation District | Shasta County | Replace leaky canal lateral with pipeline in the reach east of the Sacramento River to eliminate seepage and spills.
Main Canal Modernization Project (System Improvement) | Anderson-Cottonwood Irrigation District | Shasta County | Construct canal improvements to eliminate spills and reduce diversions.
Redding Basin Water Resources Management Plan (Surface Water/Groundwater Planning) | Anderson-Cottonwood Irrigation District | Shasta County | Complete Phase 2C—Water Supply and Management Alternatives, part of multi-step planning process.
Feather/Butte Sub-basin:
Integrated Watershed and Resource Conservation Program (Surface Water/Groundwater Planning) | Butte County | Butte County | Integrated watershed and resource conservation, groundwater monitoring and modeling, forecast water use.
Groundwater Monitoring Program (Surface Water/Groundwater Planning) | Butte County | Butte County | Install additional monitoring wells and extensometers, monitoring.
Groundwater Modeling Program (Surface Water/Groundwater Planning) | Butte County | Butte County | Update existing model to support decision-making about groundwater resources, as well as overall water resources management in the County.
Sutter-Butte Main Canal Lining Project (System Improvement) | Sutter Extension Water District, Gridley Water District, Richvale Irrigation District | Butte and Sutter Counties | Conduct field study, obtain environmental permits, develop final construction drawings, construct.
Concow Dam (Reservoir Reoperation) | Thermalito Irrigation District | Butte County | Feasibility study for raising existing concrete dam.
Water Management Project (Water Management) | RD 1004 | Colusa County | Install extraction wells.
Colusa Sub-basin:
Development of Conjunctive Water Management Facilities (Water Management) | Glenn-Colusa Irrigation District | Glenn and Colusa Counties | Fully use private landowner wells.
Conjunctive Use Project (Water Management) | Maxwell Irrigation District | Colusa County | Test-hole drilling, evaluation and production well construction and testing, groundwater monitoring.
Stony Creek Fan Conjunctive Water Management Program (Water Management) | Orland-Artois Water District, Orland Unit Water Users' Association, Glenn-Colusa Irrigation District | Glenn County | Feasibility study, groundwater production investigation, groundwater monitoring program, integrated groundwater/surface water model, and outreach plan.
Pilot Well Development/Conjunctive Management Project (Water Management) | RD 108 | Colusa and Yolo Counties | Development of production well and analysis of basin expenses.
Tehama-Colusa Canal Extension (Water Management and System Improvement) | Tehama-Colusa Canal Authority Yolo-Zamora Water District | Colusa and Yolo Counties | Prepare hydrologic and concept reports, conduct preliminary design, and collect information for project-specific environmental analysis.
Glen County Groundwater Monitoring Program and Model Development (Surface Water/Groundwater Planning) | Glenn-Colusa Irrigation District | Glenn County | Develop groundwater data clearinghouse, analyze existing data, design monitoring program, install new monitoring wells, develop groundwater model.
Water Inventory and Analysis (Surface Water/Groundwater Planning) | Tehama County | Tehama County | Information gathering process and analysis.
Feasibility Study: Regulatory Reservoirs and Off-canal Storage (Surface Water/Groundwater Planning) | Glenn-Colusa Irrigation District | Glenn and Colusa Counties | Feasibility study.
Flow Measurement Devices in Main Canal, Lateral System, and Drain Outflow Points/Existing Automation Program (System Improvement) | Glenn-Colusa Irrigation District | Glenn and Colusa Counties | Permitting, design, and construction of 12 flow measurement devices at previously identified system outflow points/permitting, design, and construction of 5 Main Canal check structures.
Regional Water Use Efficiency Project (System Improvement) | Orland Unit Water Users Association and Tehama-Colusa Canal Authority | Glenn County | Conduct feasibility studies, build pilot projects, and begin conceptual design of regional pipeline.
Development of Conveyance Alternatives for TCCA Emergency Water Supplies (System Improvement) | Tehama-Colusa Canal Authority | Colusa County | Feasibility study for Stony Creek Conveyance options; investigate an interim solution to operate a constant head orifice; agency coordination and permit planning.
Tehama-Colusa Canal Conveyance of Water to Sites Reservoir (System Improvement) | Tehama-Colusa Canal Authority | Glenn and Colusa Counties | Feasibility study, review ability of Tehama-Colusa Canal to convey potential water to a Sites Reservoir.
Antelope Creek Retention Basin Feasibility Study (Surface Water/Groundwater Planning) | Tehama County Flood Control and Water Conservation District | Tehama County | Feasibility study for construction of a retention basin.
Water Management Project (Water Management) | Princeton-Codora-Glenn Irrigation District | Glenn and Colusa Counties | Construct one groundwater extraction well.
Water Management Project (Water Management) | Provident Irrigation District | Glenn and Colusa Counties | Construct one groundwater extraction well.
Water Management Project (Water Management) | River Garden Farms | Yolo County | Construct three groundwater extraction wells.
Yuba Sub-basin:
Coordinated Operations Project (Surface Water/Groundwater Planning) | Yuba County Water Agency | Yuba County | Feasibility investigation of water supply benefits for out-of-county use, environmental and Endangered Species Act assessment and potential increased flood control benefits.
Conjunctive Use and Water Management Project (Water Management | Brown's Valley Irrigation District | Yuba County | Development of four groundwater production wells in lower portion of district and a lift pump and conveyance pipe to supply water to upper end of district.
Conjunctive Use Project (Water Management) | Yuba County Water Agency | Yuba County | Installation of extraction wells.
Sutter Sub-basin:
Grounddwater Monitoring Program (Surface Water/Groundwater Planning) | Sutter Mutual Water Company | Sutter County | Additional monitoring well, monitoring and data collection.
Watershed Assessment and Monitoring Program (Surface Water/Groundwater Planning) | Sutter County | Sutter County | Information gathering process and analysis.
Groundwater Management Plan (Surface Water/Groundwater Planning) | Sutter County | Sutter County | Information gathering process and analysis.
Irrigation Recycle Project (System Improvement) | Sutter Mutual Water Company, RD 1500 | Sutter County | Feasibility analysis of a tailwater recovery system.
Canal Lining (System Improvement) | Sutter Mutual Water Company | Sutter County | Canal lining to reduce diversions, eliminate spills.
Ground Water Development (Water Management) | Pelger Mutual Water Company | Sutter County | Construct two groundwater extraction wells.
Water Management Project (Water Management) | Meridian Farms | Sutter County | Installation of extraction wells.
American Sub-basin:
Conjunctive Use Project (Water Management) | Natomas Central Mutual Water Company | Sacramento and Sutter Counties | Pump existing wells, monitoring and analyzing results after one season.
Water Management Project (Water Management) | Pleasant Grove Verona Mutual Water Company | Sutter County | Installation of extraction wells.
Re-operation of the Middle Fork Project (Reservoir Re-operation) | Placer County Water Agency | Placer County | Re-operate primary storage reservoirs.
Yolo Sub-basin:
Conjunctive Use Project Feasibility Study for Expanding Surface Water Supplies to the Yolo-Zamora Water District (Surface Water/Groundwater Planning and System Improvement) | Yolo County Flood Control and Water Conservation District | Yolo County | Feasibiliy study for expanding surface water supplies to Yolo Zamora.
Conjunctive Use Project Feasibility Study for Expanding Surface Water Supplies to Agricultural Water Users in Areas (Surface Water/Groundwater Planning and System Improvement) | Yolo County Flood Control and Water Conservation District | Yolo County | Feasibility study for expanding surface water supplies to Agricultural areas northwest of Woodland.
Groundwater Quality Monitoring Program (Surface Water/Groundwater Planning) | Yolo County Flood Control and Water Conservation District | Yolo County | Development of a groundwater-quality monitoring program.
Delta Sub-basin:
Conjunctive Use Proposal (Water Management) | RD 2068 | Yolo County | Develop a single production well to determine conjunctive use potential.
Sacramento Valley:
Sub-basin-level Water Measurement (Surface Water/Groundwater Planning) | Participants in the Basin wide Management Plan | Sacramento Valley—Various Counties | Feasibility study, design and construction of water measurement facilities.
* The effects analysis in the Programmatic EIS/EIR would not be limited to these projects, and would include all short-term projects and actions that could be proposed under the Sacramento Valley Water Management Program.

This Programmatic EIS/EIR is expected to analyze the adverse and beneficial effects of implementing the Short-term Program on these environmental resources: surface water, water quality, fisheries, wildlife, vegetation, special-status species, land-use, cultural resources, air quality, noise, recreation, energy, visual impacts, and socioeconomic conditions. Analysis presented in the Programmatic EIS/EIR will also determine if environmental justice issues are associated with the Short-term Program. Although there are Indian Trust Assets (ITAs) in the counties where these projects are proposed, any association between these ITAs and the proposed projects and actions is unknown at this time. The following is a list of tribal trust land, per county where these projects are proposed:

• Shasta County—Redding Rancheria

• Butte County—Berry Creek Rancheria, Enterprise Rancheria, Mooretown Rancheria

• Glenn County—Grindstone Rancheria

• Colusa County—Colusa Rancheria, Cortina Rancheria

It is Reclamation's practice to make comments on a Notice of Intent, including names and home addresses of respondents, available for public review. Individual respondents may request that we withhold their home address from public disclosure, which we will honor to the extent allowable by law. There may also be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: July 30, 2003.
Robert Eckart,
Chief, Environmental Compliance Branch, Mid-Pacific Region.

[FR Doc. 03-19841 Filed 8-4-03; 8:45 am]

BILLING CODE 4310-MN-P